DEPARTMENT OF LABOR

Mine Safety and Health Administration

Petitions for Modification

The following parties have filed petitions to modify the application of existing safety standards under section 101(c) of the Federal Mine Safety and Health Act of 1977.

1. Bridger Coal Company

[Docket No. M-2005-073-C]

Bridger Coal Company, P.O. Box 68, Point of Rocks, Wyoming 82942 has filed a petition to modify the application of 30 CFR 75.1101-8 (Water sprinkler systems; arrangement of sprinklers) to its Bridger Underground Mine (MSHA I.D. No. 48-01646) located in Sweetwater County, Wyoming. The petitioner requests to modify the application of 30 CFR 75.1101-8 (Water sprinkler systems arrangement of sprinklers) if the belt controller and take-up control units comply with existing safety standards 30 CFR 75.340 and 75.1107-1(a)(3). The petitioner states that the units presently are electric and are located in transformer rooms which comply with the safety standards 75.340 and 75.1107-1(a)(3). The petitioner asserts that the proposed alternative method would provide at least the same measure of protection as the existing standard.

2. Brooks Run Mining Company, LLC

[Docket No. M-2005-074-C]

Brooks Run Mining Company, LLC, 25 Little Birch Road, Sutton, West Virginia 25601 has filed a petition to modify the application of 30 CFR 75.1002 (Installation of electric equipment and conductors; permissibility) to its Saylor Mine (MSHA I.D. No. 46-09126) located in Braxton County, West Virginia. The petitioner requests a modification of the existing standard to permit a production stream to be maintained from the 2,400-volt continuous miners at the Saylor Mine. The petitioner has listed in this petition specific terms and conditions that will be followed when the proposed alternative method is implemented. The petitioner asserts that the proposed alternative method would provide at least the same measure of protection as the existing standard.

3. AMFIRE Mining Company, LLC

[Docket No. M-2005-075-C]

AMFIRE Mining Company, LLC, P.O. Box 157, Clymer, Pennsylvania 15728 has filed a petition to modify the application of 30 CFR 75.1710-1 (Canopies or cabs; self-propelled diesel-powered and electric face equipment; installation requirements) to its Nolo Mine (MSHA I.D. No. 36-08850) located in Indiana County, Pennsylvania. The petitioner proposes to operate self-propelled electric face equipment without cabs and canopies in coal seams of 48″ or less. The petitioner asserts that using cabs and canopies on the equipment in areas of 48′ or less results in a diminution of safety causing the roof support to be dislodged. In addition, the operator's visibility is decreased which poses a hazardous situation to persons traveling on foot. The petitioner asserts that the proposed alternative method would provide at least the same measure of protection as the existing standard.

Request for Comments

Persons interested in these petitions are encouraged to submit comments via e-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before December 30, 2005. Copies of these petitions are available for inspection at that address.

Dated at Arlington, Virginia this 23rd day of November 2005.
Rebecca J. Smith,
Acting Director, Office of Standards, Regulations, and Variances.

[FR Doc. E5-6705 Filed 11-29-05; 8:45 am]

BILLING CODE 4510-43-P